DEPARTMENT OF ENERGY

Federal Energy Regulatory Commission

Combined Notice of Filings No. 1

June 29, 2010.

Take notice that the Commission received the following exempt wholesale generator filings:

Docket Numbers: EG10-50-000.

Applicants: Synergics Roth Rock North Wind Energy, LLC.

Description: Notice of Self-Certification of EWG Status for Synergics Roth Rock North Wind Energy, LLC.

Filed Date: 06/29/2010.

Accession Number: 20100629-5093.

Comment Date: 5 p.m. Eastern Time on Tuesday, July 20, 2010.

Take notice that the Commission received the following electric rate filings:

Docket Numbers: ER94-389-038; ER01-2641-018.

Applicants: Tenaska Power Services Co., High Desert Power Project, LLC.

Description: Updated Market Power Analysis of High Desert Power, LLC, et al.

Filed Date: 06/28/2010.

Accession Number: 20100628-5073.

Comment Date: 5 p.m. Eastern Time on Thursday, September 16, 2010.

Docket Numbers: ER01-1527-016; ER01-1527-016.

Applicants: Sierra Pacific Power Company.

Description: Sierra Pacific Power Company submits an updated market power study for the Northwest Region.

Filed Date: 06/28/2010.

Accession Number: 20100629-0113.

Comment Date: 5 p.m. Eastern Time on Thursday, September 16, 2010.

Docket Numbers: ER04-1186-006.

Applicants: KGEN SANDERSVILLE LLC.

Description: KGen Sandersville LLC submits their filing demonstrating that KGen is a Category 1 market based rate seller under Section 35.36 of the Commission's regulations established in Order No 697.

Filed Date: 06/28/2010.

Accession Number: 20100629-0101.

Comment Date: 5 p.m. Eastern Time on Monday, July 19, 2010.

Docket Numbers: ER07-1259-003.

Applicants: San Joaquin Cogen, L.L.C.

Description: San Joaquin Cogen, LLC submits a request for Category 1 Seller classification.

Filed Date: 06/28/2010.

Accession Number: 20100629-0112.

Comment Date: 5 p.m. Eastern Time on Monday, July 19, 2010.

Docket Numbers: ER07-1372-020.

Applicants: Midwest Independent Transmission System Operator, Inc.

Description: Midwest Independent Transmission System Operator, Inc. submits proposed revisions to the Midwest ISO's Open Access Transmission, Energy and Operating Reserve Markets Tariff, to comply with 30-day compliance filing etc.

Filed Date: 06/28/2010.

Accession Number: 20100629-0111.

Comment Date: 5 p.m. Eastern Time on Monday, July 19, 2010.

Docket Numbers: ER09-1020-002.

Applicants: Panoche Energy Center, LLC.

Description: Panoche Energy Center, LLC submits their triennial compliance filing pursuant to Order No. 697.

Filed Date: 06/28/2010.

Accession Number: 20100629-0108.

Comment Date: 5 p.m. Eastern Time on Monday, July 19, 2010.

Docket Numbers: ER09-1064-003.

Applicants: California Independent System Operator Corporation.

Description: California System Operator Corporation submits new clean sheet 2nd Sub. Original Sheet 802H.01 that replaces Sub. Original Sheet 802H.01 in order to exclude the erroneous language.

Filed Date: 06/25/2010.

Accession Number: 20100628-0214.

Comment Date: 5 p.m. Eastern Time on Friday, July 16, 2010.

Docket Numbers: ER10-877-002.

Applicants: The Empire District Electric Company.

Description: The Empire District Electric Company submits Rate Schedule designated as FERC Electric Tariff, Original Volume No. 4, effective 6/1/10.

Filed Date: 06/25/2010.

Accession Number: 20100628-0213.

Comment Date: 5 p.m. Eastern Time on Friday, July 16, 2010.

Docket Numbers: ER10-947-002; ER10-948-002; ER10-949-002; ER10-950-002.

Applicants: Westar Energy, Inc.

Description: Westar Energy submits sub revised sheets to certain of its Full Requirement Electric Service Rate Schedules and its Tariff under which it provides full requirements service to municipal customers.

Filed Date: 06/28/2010.

Accession Number: 20100628-0219.

Comment Date: 5 p.m. Eastern Time on Monday, July 19, 2010.

Docket Numbers: ER10-990-001.

Applicants: Midwest Independent System Transmission Operator, Inc.

Description: Midwest Independent Transmission System Operator, Inc. submits instant filing in compliance with the Commission's May 28 Order.

Filed Date: 06/28/2010.

Accession Number: 20100629-0110.

Comment Date: 5 p.m. Eastern Time on Monday, July 19, 2010.

Docket Numbers: ER10-1228-001.

Applicants: Allegheny Energy Supply Company, LLC.

Description: Allegheny Energy Supply Company, LLC submits First Revised Sheet No. 2C of its market based rate tariff, effective 6/1/10.

Filed Date: 06/25/2010.

Accession Number: 20100628-0215.

Comment Date: 5 p.m. Eastern Time on Friday, July 16, 2010.

Docket Numbers: ER10-1554-000.

Applicants: Mid-Continent Area Power Pool.

Description: The California Independent System Operator Corporation submits revisions to its tariff necessary to implement convergence bidding in the ISO's markets.

Filed Date: 06/25/2010.

Accession Number: 20100628-0212.

Comment Date: 5 p.m. Eastern Time on Friday, July 16, 2010.

Docket Numbers: ER10-1557-000.

Applicants: Southwest Power Pool, Inc.

Description: Southwest Power Pool, Inc. submits executed Large Generator Interconnection Agreement.

Filed Date: 06/25/2010.

Accession Number: 20100628-0207.

Comment Date: 5 p.m. Eastern Time on Friday, July 16, 2010.

Docket Numbers: ER10-1558-000.

Applicants: Southwest Power Pool, Inc.

Description: Southwest Power Pool, Inc. submits executed Meter Agent Services Agreement between The Energy Authority, Inc. and Nebraska Public Power District.

Filed Date: 06/25/2010.

Accession Number: 20100628-0208.

Comment Date: 5 p.m. Eastern Time on Friday, July 16, 2010.

Docket Numbers: ER10-1560-000.

Applicants: Arizona Public Service Company.

Description: Arizona Public Service Company submits amendment to the McNeal Mutual Standby Transmission Service Agreement, designated as APS's Rate Schedule FERC No. 125.

Filed Date: 06/25/2010.

Accession Number: 20100628-0209.

Comment Date: 5 p.m. Eastern Time on Friday, July 16, 2010.

Docket Numbers: ER10-1561-000.

Applicants: Midwest Independent Transmission System.

Description: Midwest Independent Transmission System Operator, Inc. submits Facilities Construction Agreement with Lakefield Wind Project, LLC et al.

Filed Date: 06/25/2010.

Accession Number: 20100628-0210.

Comment Date: 5 p.m. Eastern Time on Friday, July 16, 2010.

Docket Numbers: ER10-1562-000.

Applicants: Duke Energy Ohio, Inc.

Description: Duke Energy Ohio, Inc. et al. submits the first step of their proposed move from the Midwest ISO to PJM Interconnection.

Filed Date: 06/25/2010.

Accession Number: 20100628-0211.

Comment Date: 5 p.m. Eastern Time on Monday, July 26, 2010.

Docket Numbers: ER10-1570-000.

Applicants: Florida Power Corporation.

Description: Florida Power Corporation submits Service Agreement for Network Integration Transmission Service and Network Operating Agreement between PEF and the City of Winter Park.

Filed Date: 06/28/2010.

Accession Number: 20100628-0217.

Comment Date: 5 p.m. Eastern Time on Monday, July 19, 2010.

Docket Numbers: ER10-1571-000.

Applicants: PJM Interconnection, L.L.C.

Description: PJM Interconnection, LLC submits an executed interim interconnection service agreement.

Filed Date: 06/28/2010.

Accession Number: 20100628-0216.

Comment Date: 5 p.m. Eastern Time on Monday, July 19, 2010.

Docket Numbers: ER10-1572-000.

Applicants: Southern Company Services, Inc.

Description: Alabama Power Company et al. submits information pertaining to recovery of Post-Retirement Benefits Other Than Pensions etc.

Filed Date: 06/28/2010.

Accession Number: 20100628-0220.

Comment Date: 5 p.m. Eastern Time on Monday, July 19, 2010.

Docket Numbers: ER10-1573-000.

Applicants: Wolverine Power Supply Cooperative, Inc.

Description: Wolverine Power Supply Cooperative, Inc. submits tariff filing per 35.12: Initial Baseline Filing of Reactive Supply Service Rate Schedule to be effective 6/28/2010.

Filed Date: 06/28/2010.

Accession Number: 20100628-5133.

Comment Date: 5 p.m. Eastern Time on Monday, July 19, 2010.

Docket Numbers: ER10-1574-000.

Applicants: Wolverine Power Supply Cooperative, Inc.

Description: Wolverine Power Supply Cooperative, Inc. submits tariff filing per 35.37: Category One Demonstration Filing to be effective 8/28/2010.

Filed Date: 06/28/2010.

Accession Number: 20100628-5138.

Comment Date: 5 p.m. Eastern Time on Monday, July 19, 2010.

Docket Numbers: ER10-1575-000.

Applicants: Cottonwood Energy Company, LP.

Description: Cottonwood Energy Company, LP submits tariff filing per 35.12: Initial Market Based Rate Tariff Filing to be effective 6/28/2010.

Filed Date: 06/28/2010.

Accession Number: 20100628-5142.

Comment Date: 5 p.m. Eastern Time on Monday, July 19, 2010.

Docket Numbers: ER10-1576-000.

Applicants: Magnolia Energy LP.

Description: Magnolia Energy LP submits tariff filing per 35.12: Initial Baseline Filing to be effective 6/28/2010.

Filed Date: 06/28/2010.

Accession Number: 20100628-5147.

Comment Date: 5 p.m. Eastern Time on Monday, July 19, 2010.

Docket Numbers: ER10-1577-000.

Applicants: Dogwood Energy LLC.

Description: Dogwood Energy LLC submits tariff filing per 35.12: Initial Baseline Filing to be effective 6/28/2010.

Filed Date: 06/28/2010.

Accession Number: 20100628-5151.

Comment Date: 5 p.m. Eastern Time on Monday, July 19, 2010.

Docket Numbers: ER10-1578-000.

Applicants: Liberty Electric Power, LLC.

Description: Liberty Electric Power, LLC submits tariff filing per 35.37: Category One Demonstration Filing to be effective 8/28/2010.

Filed Date: 06/28/2010.

Accession Number: 20100628-5152.

Comment Date: 5 p.m. Eastern Time on Monday, July 19, 2010.

Docket Numbers: ER10-1579-000.

Applicants: Milford Power Company, LLC.

Description: Milford Power Company, LLC submits tariff filing per 35.37: Category One Demonstration Filing to be effective 8/28/2010.

Filed Date: 06/28/2010.

Accession Number: 20100628-5153.

Comment Date: 5 p.m. Eastern Time on Monday, July 19, 2010.

Docket Numbers: ER10-1580-000.

Applicants: Saguaro Power Company LP.

Description: Saguaro Power Company LP submits tariff filing per 35.12: Saguaro Power—FERC Electric Tariff to be effective 6/28/2010.

Filed Date: 06/28/2010.

Accession Number: 20100628-5154.

Comment Date: 5 p.m. Eastern Time on Monday, July 19, 2010.

Docket Numbers: ER10-1581-000.

Applicants: Long Beach Peakers LLC.

Description: Long Beach Peakers LLC submits tariff filing per 35.12: Long Beach Peakers—FERC Electric Tariff to be effective 7/1/2010.

Filed Date: 06/28/2010.

Accession Number: 20100628-5155.

Comment Date: 5 p.m. Eastern Time on Monday, July 19, 2010.

Docket Numbers: ER10-1582-000.

Applicants: Solar Blythe LLC.

Description: Solar Blythe LLC submits tariff filing per 35.12: NRG Solar Blythe—FERC Electric Tariff to be effective 6/28/2010.

Filed Date: 06/28/2010.

Accession Number: 20100628-5169.

Comment Date: 5 p.m. Eastern Time on Monday, July 19, 2010.

Docket Numbers: ER10-1583-000.

Applicants: El Segundo Power II LLC.

Description: El Segundo Power II LLC submits tariff filing per 35.12: El Segundo Power II—FERC Electric Tariff to be effective 6/28/2010.

Filed Date: 06/28/2010.

Accession Number: 20100628-5173.

Comment Date: 5 p.m. Eastern Time on Monday, July 19, 2010.

Docket Numbers: ER10-1584-000.

Applicants: Indianapolis Power & Light Company.

Description: Indianapolis Power & Light Co submits a notice of cancellation.

Filed Date: 06/28/2010.

Accession Number: 20100629-0115.

Comment Date: 5 p.m. Eastern Time on Monday, July 19, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

As it relates to any qualifying facility filings, the notices of self-certification [or self-recertification] listed above, do not institute a proceeding regarding qualifying facility status. A notice of self-certification [or self-recertification] simply provides notification that the entity making the filing has determined the facility named in the notice meets the applicable criteria to be a qualifying facility. Intervention and/or protest do not lie in dockets that are qualifying facility self-certifications or self-recertifications. Any person seeking to challenge such qualifying facility status may do so by filing a motion pursuant to 18 CFR 292.207(d)(iii). Intervention and protests may be filed in response to notices of qualifying facility dockets other than self-certifications and self-recertifications.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-16635 Filed 7-7-10; 8:45 am]

BILLING CODE 6717-01-P